DEPARTMENT OF COMMERCE

International Trade Administration

[A-122-857]

Certain Softwood Lumber Products From Canada: Postponement of Final Determination of Less-Than-Fair-Value Investigation and Extension of Provisional Measures

AGENCY: Enforcement and Compliance, International Trade Administration, Department of Commerce.

SUMMARY: The Department of Commerce (the Department) is postponing until November 13, 2017, the deadline for issuing the final determination in the less-than-fair-value (LTFV) investigation of certain softwood lumber products (softwood lumber) from Canada, and is extending the provisional measures from a four-month period to a period of not more than six months. As the deadline for the final determination of the countervailing duty (CVD) investigation of softwood lumber from Canada is aligned with the deadline for the final determination of the LTFV investigation, the final CVD determination will also be issued no later than November 13, 2017.

DATES: Applicable September 1, 2017.

FOR FURTHER INFORMATION CONTACT: Stephen Bailey, AD/CVD Operations, Office IV, Enforcement and Compliance, International Trade Administration, U.S. Department of Commerce, 1401 Constitution Avenue NW., Washington, DC 20230; telephone: (202) 482-0193.

SUPPLEMENTARY INFORMATION:

Background

On April 28, 2017, and June 30, 2017, respectively, the Department published its preliminary determinations in the CVD and LTFV investigations of softwood lumber from Canada.¹ In the CVD Preliminary Determination, at the request of the petitioner,² the Department aligned the final deadline for the CVD investigation with the final determination of the LTFV investigation.³

¹ See Certain Softwood Lumber Products from Canada: Preliminary Affirmative Countervailing Duty Determination, and Alignment of Final Determination with Final Antidumping Duty Determination, 82 FR 19657 (April 28, 2017) (CVD Preliminary Determination) and Certain Softwood Lumber Products from Canada: Preliminary Affirmative Determination of Sales at Less Than Fair Value, 82 FR 29833 (June 30, 2017) (LTFV Preliminary Determination).

² The Committee Overseeing Action for Lumber International Trade Investigations or Negotiations (the petitioner).

³ See CVD Preliminary Determination, 82 FR at 19657-19658.

On May 26, 2017, and June 26, 2017, Canfor Corporation (Canfor), Resolute FP Canada Inc. (Resolute), Tolko Marketing and Sales Ltd. and Tolko Industries Ltd. (Tolko), and West Fraser Mills Ltd., (West Fraser) (collectively, the Company Respondents), requested that the Department fully extend the deadline for the final LTFV determination, and extend the application of the provisional measures from a four-month period to a period of not more than six months.⁴

⁴ See Letters from Canfor, Resolute, Tolko, and West Fraser dated May 26, 2017, June 26, 2017, May 26, 2017, and May 26, 2017, respectively.

Postponement of Final LTFV Determination and Aligned Final CVD Determination

Given the complexity of these investigations and the volume of information on the records of these proceedings that needs to be analyzed, the Department finds that postponement is warranted in the LTFV investigation and the aligned CVD investigation covering softwood lumber from Canada. Further, because of the ongoing discussions between the Governments of the United States and Canada focusing on a durable solution to this long-standing trade dispute, postponement of these aligned investigations is also warranted. This additional time will afford the Department the time to both address the factual and legal matters on the records of these proceedings, as well as continue discussions on this broader cross-border trade dispute.

Therefore, pursuant to 735(a)(2)(A) of the Tariff Act of 1930, as amended, the Department is (1) postponing the LTFV final determination until no later than November 13, 2017, which is 135 days after the date of the publication of the LTFV Preliminary Determination, and (2) extending the provisional measures from a four-month period to a period of not more than six months. Further, as noted above, because the CVD investigation is aligned with the LTFV investigation, the Department will also issue its final determination in the CVD investigation no later than November 13, 2017.⁵

⁵ Postponing the final determinations to 135 days after the publication of the LTFV Preliminary Determination would place the deadline on Sunday, November 12, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to 19 CFR 351.210(g).

Dated: August 28, 2017.
Gary Taverman,
Deputy Assistant Secretary for Antidumping and Countervailing Duty Operations, Performing the Non-Exclusive Functions and Duties of the Assistant Secretary for Enforcement and Compliance.

[FR Doc. 2017-18643 Filed 8-31-17; 8:45 am]

BILLING CODE 3510-DS-P